FEDERAL RESERVE SYSTEM

12 CFR Part 202

[Regulation B; Docket No. R-1008]

Equal Credit Opportunity

AGENCY: Board of Governors of the Federal Reserve System.

ACTION: Technical amendment.

SUMMARY: The Board is publishing a technical amendment to Regulation B (Equal Credit Opportunity). The amendment updates the model application form “Uniform Residential Loan Application” (Freddie Mac 65/Fannie Mae 1003) in Appendix B of the regulation.

DATES: The amendment is effective January 1, 2004.

FOR FURTHER INFORMATION CONTACT: Minh-Duc T. Le, Attorney, Division of Consumer and Community Affairs, Board of Governors of the Federal Reserve System, Washington, DC 20551, at (202) 452-3667 or (202) 452-2412. For users of Telecommunications Device for the Deaf (TDD) only, contact (202) 263-4869.

SUPPLEMENTARY INFORMATION:

I. Background

The Equal Credit Opportunity Act (ECOA), 15 U.S.C. 1691-1691f, makes it unlawful for a creditor to discriminate against an applicant in any aspect of a credit transaction on the basis of the applicant's national origin, marital status, religion, sex, color, race, age (provided the applicant has the capacity to contract), receipt of public assistance benefits, or the good faith exercise of a right under the Consumer Credit Protection Act (15 U.S.C. 1601 et. seq.). The ECOA is implemented by the Board's Regulation B.

On March 5, 2003, the Board published a final rule amending Regulation B (68 FR 13144) after a comprehensive review of the regulation. Appendix B contains model application forms, including joint Freddie Mac/Fannie Mae “Uniform Residential Loan Application” (Form 65/1003) for use in certain residential mortgage transactions. At the time the final rule was issued, Freddie Mac and Fannie Mae were in the process of revising Form 65/1003. This technical amendment to Regulation B replaces the prior version of Form 65/1003 with the new form that Freddie Mac/Fannie Mae have adopted. Creditors should continue to use the current model form until January 1, 2004.

List of Subjects in 12 CFR Part 202

Banks, Banking, Credit, Federal Reserve System, Mortgages.

For the reasons set forth in the preamble, the Board amends 12 CFR Part 202 as follows:

PART 202—EQUAL CREDIT OPPORTUNITY ACT (REGULATION B)

1. The authority citation for part 202 continues to read as follows:

Authority: 15 U.S.C. 1691-1891f.

2. Appendix B is amended by removing the joint Freddie Mac/Fannie Mae “Uniform Residential Loan Application” (Form 65/1003) dated 10/92 and adding the joint Freddie Mac/Fannie Mae “Uniform Residential Loan Application” (Form 65/1003) dated 01/04 in its place.

APPENDIX B TO PART 202—MODEL APPLICATION FORMS

* * * * *

BILLING CODE 6210-01-P

* * * * *

By order of the Board of Governors of the Federal Reserve System, acting through the Director of the Division of Consumer and Community Affairs under delegated authority, September 5, 2003.

Jennifer J. Johnson,
Secretary of the Board.

[FR Doc. 03-23175 Filed 9-10-03; 8:45 am]

BILLING CODE 6210-01-M